DEPARTMENT OF ENERGY

Federal Energy Regulatory Commission

[Docket Nos. TM99-6-29-006, RP00-209-004, RP01-253-006, and RP02-171-004]

Transcontinental Gas Pipe Line Corporation; Notice of Compliance Filing

December 13, 2002.

Take notice that on December 9, 2002 Transcontinental Gas Pipe Line Corporation (Transco) tendered for filing as part of its FERC Gas Tariff, Third Revised Volume No. 1, certain revised tariff sheets to which sheets are enumerated in Appendix A attached to the filing.

Transco states that the filing is being filed pursuant to a Commission's Order dated October 10, 2002 (October 10 Order) which directed Transco to file, within sixty days revised tariff sheets with revised Fuel Retention Percentages for each annual period beginning April 1, 1999, calculated in accordance with the Commission's instructions in the October 10 Order, together with supporting calculations and workpapers. In addition, the October 10 Order instructed Transco to use the methodology approved in the October 10 Order to calculate the net refunds or billing adjustments to be made, and to include the refund computations and supporting workpapers in its compliance filing.

Transco states that copies of the filing are being mailed to its affected customers and interested State Commissions.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-32032 Filed 12-18-02; 8:45 am]

BILLING CODE 6717-01-P